DEPARTMENT OF TRANSPORTATION

Federal Aviation Administration

[Docket No. FAA-2021-0361]

Agency Information Collection Activities: Requests for Comments; Clearance of a New Approval of Information Collection: Inspection Authorization Refresher Course Acceptance Form

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on April 29, 2021. The collection is from persons or entities that desire to provide Inspection Authorization (IA) refresher courses for the purpose of IA renewal. The course providers complete FAA Form 8610-6 to substantiate their courses and administrative procedures are acceptable to the FAA Administrator.

DATES: Written comments should be submitted by April 1, 2022.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Robert Warren, by email at: robert.w.warren@faa.gov; phone: 202-267-1711.

SUPPLEMENTARY INFORMATION: OMB Control Number: 2120-NEW.

Title: Inspection Authorization Refresher Course Acceptance Form.

Form Numbers: FAA Form 8610-6.

Type of Review: A new information collection.

Background: The Federal Register Notice with a 60-day comment period soliciting comments on the following collection of information was published on April 29, 2021 (86 FR 22758). No comments were received. Successful completion of a refresher course acceptable to the Administrator is one method available for mechanics renewing their Inspection Authorization in accordance with 14 CFR 65.93. The information requested by the form enables the FAA to determine if the IA refresher course providers offer course content that meets the intent of the regulation, 14 CFR part 65.93(a)(4). The form also seeks substantiation of the course provider's administrative processes to ensure recordkeeping of the training provided to IA mechanics that have taken their courses. Though no comments were received, the number of estimated respondents used in the burden estimates has been reduced due to a decrease of course providers and accepted courses, since the 60 day Federal Register Notice published.

Respondents: Persons or entities who apply for or have received FAA-acceptance of courses to conduct IA refresher training.

Frequency: Course acceptance is required initially, and must be renewed every 4 years. On occasion, course providers must request acceptance when substantial course revisions are made. Course provider record keeping is a function of the number of courses taken by IA mechanics.

Estimated Average Burden per Response: 1 hours reporting, 0.1 hours recordkeeping.

Estimated Total Annual Burden: 6,860 hours.

Issued in Washington, DC, on February 25, 2022.
Tanya Glines,
Aviation Safety Inspector, Office of Safety Standards, Aircraft Maintenance Division, Airmen Section.

[FR Doc. 2022-04408 Filed 3-1-22; 8:45 am]

BILLING CODE 4910-13-P